DEPARTMENT OF DEFENSE

Office of the Secretary

[Transmittal No. 17-41]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-41 with attached Policy Justification and Sensitivity of Technology.

Dated: March 22, 2018.
Shelly Finke,
Alternate OSD Federal Register Liaison Officer, Department of Defense.

BILLING CODE 5001-06-P

BILLING CODE 5001-06-C

Transmittal No. 17-41

Notice of Proposed Issuance of Letter of Offer Pursuant to Section 36(b)(1) of the Arms Export Control Act, as amended

(i) Prospective Purchaser: Government of Qatar

(ii) Total Estimated Value:

Major Defense Equipment * | $ 1 million
Other | $196 million
Total | $197 million

(iii) Description and Quantity or Quantities of Articles or Services under Consideration for Purchase: The Government of Qatar has requested to purchase equipment and support to upgrade the Qatari Emiri Air Force's (QEAF) Air Operation Center (AOC), to include Link 16 network and classified networks integration, to enhance the performance of integrated air defense planning and provide US-Qatari systems interoperability.

Major Defense Equipment (MDE):

One (1) Multifunctional Information Distribution System (MIDS) Low Volume Terminal (LVT)

Non-MDE:

Also included are Global Positioning System (GPS) Selective Availability Anti-Spoofing Module (SAASM) Chips, Simple Key Loaders (SKL), High Assurance internet Protocol Encryptors (HAIPE), Ground Support System (GSS) components for Link-16, as well as the necessary infrastructure construction, integration, installation, and sustainment services, cybersecurity services, technical and support facilities, COMSEC support, secure communications equipment, encryption devices, software development, spare and repair parts, support and test equipment, publications and technical documentation, security certification and accreditation, personnel training and training equipment, U.S. Government and contractor engineering, technical and logistics support services; and other related elements of logistical and program support.

(iv) Military Department: Air Force (QA-D-DAG)

(v) Prior Related Cases, if any: N/A

(vi) Sales Commission, Fee, etc., Paid, Offered, or Agreed to be Paid: None

(vii) Sensitivity of Technology Contained in the Defense Article or Defense Services Proposed to be Sold: See Attached Annex

(viii) Date Report Delivered to Congress: March 7, 2018

* As defined in Section 47(6) of the Arms Export Control Act.

POLICY JUSTIFICATION

Qatar—Upgrade of Qatar Air Operations Center (AOC)

The Government of Qatar has requested to purchase equipment and support to upgrade the Qatari Emiri Air Force's (QEAF) Air Operation Center (AOC) to enhance the performance of integrated air defense planning and provide US-Qatari systems interoperability. This sale includes: one (1) Multifunctional Information Distribution System (MIDS) Low Volume Terminal (LVT), Global Positioning System (GPS) Selective Availability Anti-Spoofing Module (SAASM) chips, Simple Key Loaders (SKL), High Assurance internet Protocol Encryptors (HAIPE), Ground Support System (GSS) components for Link-16 as well as the necessary infrastructure construction, integration, installation, and sustainment services, cybersecurity services, technical and support facilities, COMSEC support, secure communications equipment, encryption devices, software development, spare and repair parts, support and test equipment, publications and technical documentation, security certification and accreditation, personnel training and training equipment, U.S. Government and contractor engineering, technical and logistics support services; and other related elements of logistical and program support. The estimated cost is $197 million.

This proposed sale will contribute to the foreign policy and national security of the United States by helping to improve the security of a friendly country that has been, and continues to be, an important force for political stability and economic progress in the Persian Gulf region. Our mutual defense interests anchor our relationship and the Qatar Emiri Air Force (QEAF) plays a predominant role in Qatar's defense.

The upgrade of the AOC will support the defensive capability of Qatar. The proposed sale will help strengthen Qatar's capability to counter current and future threats in the region and reduce dependence on U.S. forces. Qatar will have no difficulty absorbing the required equipment and capability into its armed forces.

The proposed sale of this equipment and support will not alter the basic military balance in the region.

The prime contractor will be Raytheon, Waltham, MA. Qatar typically requests offsets. Any offset agreement will be defined in negotiations between Qatar and the contractor.

Implementation of this proposed sale will require the assignment of approximately five (5) additional U.S. Government and approximately fifteen (15) contractor representatives to Qatar.

There will be no adverse impact on U.S. defense readiness as a result of this proposed sale.

Transmittal No. 17-41

Notice of Proposed Issuance of Letter of Offer Pursuant to Section 36(b)(1) of the Arms Export Control Act

Annex

Item No. vii

(vii) Sensitivity of Technology:

1. The Multifunctional Information Distribution System-Low Volume Terminal (MIDS-LVT) is an advanced Link-16 command, control, communications, and intelligence (C3I) system incorporating high-capacity, jam-resistant, digital communication links is used for exchange of near real-time tactical information, including both data and voice, among air, ground, and sea elements. The terminal hardware, publications, performance specifications, operational capability, parameters, vulnerabilities to countermeasures, and software documentation are classified CONFIDENTIAL. The classified information to be provided consists of that which is necessary for the operation, maintenance, and repair (through intermediate level) of the data link terminal, installed systems, and related software.

2. A Global Positioning System (GPS) Selective Availability Anti-Spoofing Module (SAASM) deploys anti-spoofing measures using cryptography to protect authorized users from false satellite signals generated by an enemy. Information revealing SAASM implementation details such as number or length of keying variables, circuit diagrams, specific quantitative measures, functions, and capabilities are classified SECRET.

3. Software, hardware, and other data/information, which is classified or sensitive, is reviewed prior to release to protect system vulnerabilities, design data, and performance parameters. Some end-item hardware, software, and other data identified above are classified at the CONFIDENTIAL and SECRET//RELEASABLE TO QATAR level. Potential compromise of these systems is controlled through management of the basic software programs of highly sensitive systems and software-controlled weapon systems on a case-by-case basis.

4. If a technologically advanced adversary were to obtain knowledge of the specific hardware and software elements, the information could be used to develop countermeasures that might reduce weapon system effectiveness or be used in the development of a system with similar or advanced capabilities.

5. A determination has been made that Qatar can provide substantially the same degree of protection for the sensitive technology being released as the U.S. Government. This proposed sale is necessary to further the U.S. foreign policy and national security objectives outlined in the Policy Justification.

6. All defense articles and services listed on this transmittal are authorized for release and export to the Government of Qatar.

[FR Doc. 2018-06146 Filed 3-27-18; 8:45 am]

BILLING CODE 5001-06-P